NATIONAL CREDIT UNION ADMINISTRATION

Sunshine Act Meeting Notice; Matter Added to the Agenda for Consideration at an Agency Meeting

FEDERAL REGISTER CITATION OF PREVIOUS ANNOUNCEMENT: October 21, 2013 (78 FR 62364).

TIME AND DATE: 10:00 a.m., Thursday, October 24, 2013.

PLACE: Board Room, 7th Floor, Room 7047, 1775 Duke Street, Alexandria, VA 22314-3428.

STATUS: Open.

Pursuant to the provisions of the “Government in Sunshine Act” notice is hereby given that the NCUA Board gave notice on October 21, 2013 (78 FR 62364) of the regular meeting of the NCUA Board scheduled for October 24, 2013. Prior to the meeting, on October 22, 2013, the NCUA Board unanimously determined that agency business required the addition of the first item on the agenda with less than seven days' notice to the public, and that no earlier notice of the deletion was possible.

MATTERS TO BE ADDED: 1. Board Briefing, Proposed Interagency Policy Statement, Joint Diversity Standards for Regulated Entities.

FOR FURTHER INFORMATION CONTACT: Gerard Poliquin, Secretary of the Board, Telephone: 703-518-6304

Gerard Poliquin,
Secretary of the Board.

[FR Doc. 2013-25353 Filed 10-23-13; 4:15 pm]

BILLING CODE 7535-01-P